DEPARTMENT OF DEFENSE

Department of the Navy

[Docket ID: USN-2023-HQ-0010]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 22, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OPNAV N1, Department of the Navy, 701 Courthouse Road, Arlington, VA 22204, ATTN: Richard Linton, Ph.D. or call 703-604-6058.

SUPPLEMENTARY INFORMATION:

Title; Associated Form; and OMB Number: Navy Health of the Force Survey; OMB Control Number 0703-0079.

Needs and Uses: The Navy Health of the Force Survey is a strategic level engagement survey of the Navy Active Duty population that addresses core measures relating to the health of the force, and addresses emergent issues of interest to Navy leadership. The core survey questions support trend analysis on the following metrics: Sailor job satisfaction, retention plans, and influences to stay or leave; Health of the Force Metrics: Connectedness, cohesion, organizational commitment, job satisfaction, and inclusion; and diversity, equity, and inclusion in the Navy. The survey alternates between addressing issues pertaining to the work environment (odd years) and issues pertaining to programs and policies that support Sailors personal lives (even years). The survey is being revised in 2023 to include Navy Reserve Personnel and add questions related to their experience. Additionally, new questions relating to trust, work/life balance, safe work environments, and Morale, Welfare, and Recreation support services. The results of the annual engagement survey inform the Navy's Health of the Force Report to Congress, congressional testimony, and support program and policy assessments.

Affected Public: Individuals or households.

Annual Burden Hours: 14,583.33.

Number of Respondents: 35,000.

Responses per Respondent: 1.

Annual Responses: 35,000.

Average Burden per Response: 25 minutes.

Frequency: Annually.

Dated: March 17, 2023.
Aaron T. Siegel,
Alternate OSD Federal Register Liaison Officer, Department of Defense.

[FR Doc. 2023-05875 Filed 3-21-23; 8:45 am]

BILLING CODE 5001-06-P